DEPARTMENT OF LABOR

Employment and Training Administration

[TA-W-63,271]

Horton Automatics a Subsidiary of Overhead Door Corporation Including On-Site Leased Workers From Remedy Staffing Corpus Christi, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on June 12, 2008, applicable to workers of Horton Automatics, including on-site leased workers from Remedy Staffing, Corpus Christi, Texas. The notice was published in the Federal Register on June 27, 2008 (73 FR 36575).

At the request of the State agency, the Department reviewed the certification for workers of the subject firm. The workers are engaged in the subassembly of parts for automatic windows and doors.

New information shows that Horton Automatics is a subsidiary of Overhead Door Corporation and that some of the workers wages at the subject firm are being reported under the Unemployment Insurance (UI) tax account for Overhead Door Corporation.

Accordingly, the Department is amending this certification to include workers of the subject firm whose UI wages are reported under the parent firm, Overhead Door Corporation.

The amended notice applicable to TA-W-63,271 is hereby issued as follows:

“Workers engaged in the subassembly of parts at Horton Automatics, a subsidiary of Overhead Door Corporation, including on-site leased workers from Remedy Staffing, Corpus Christi, Texas, who became totally or partially separated from employment on or after April 10, 2007, through June 12, 2010, are eligible to apply for adjustment assistance under Section 223 of the Trade Act of 1974, and are also eligible to apply for alternative trade adjustment assistance under Section 246 of the Trade Act of 1974.”

Signed at Washington, DC this 25th day of August 2008.
Linda G. Poole,
Certifying Officer, Division of Trade Adjustment Assistance.

[FR Doc. E8-20347 Filed 9-2-08; 8:45 am]

BILLING CODE 4510-FN-P